DEPARTMENT OF TRANSPORTATION

Federal Aviation Administration

Notice of Opportunity for Public Comment on Non-Rule Making Action at Northeast Alabama Regional Airport (GAD) Located in Gadsden, Alabama

AGENCY: Federal Aviation Administration, DOT.

ACTION: Request for public comments.

SUMMARY: Notice is being given that the FAA is considering a request from the Northeast Alabama Regional Airport Authority to waive the requirement that a 1.00± acre parcel of airport property, located at Northeast Alabama Regional Airport (GAD) in Gadsden, Alabama, be used for aeronautical purposes.

DATES: Comments must be received on or before February 13, 2023.

ADDRESSES: The public may send comments using the following methods:

• Federal eRulemaking Portal: Go to http://www.regulations.gov, and follow the instructions on providing comments.

• Fax: 601-664-9901.

• Mail: Brian Hendry, Community Planner, Jackson Airports District Office, 100 West Cross St., Suite B, Jackson, MS 39208-2307.

• Hand Delivery: Deliver to mail address above between 8 a.m. and 5 p.m. Monday through Friday, excluding Federal holidays.

In addition, one copy of any comments submitted to the FAA must be mailed or delivered to Northeast Alabama Airport Authority Attn: Mr. Lee Roberts at the Northeast Alabama Airport 185 Ira Gray Drive, Gadsden, Alabama 35904.

FOR FURTHER INFORMATION CONTACT: Brian Hendry, Community Planner, Jackson Airports District Office, 100 West Cross Street, Suite B, Jackson, MS 39208-2307, (601) 664-9897. The land release request may be reviewed in person at this same location.

SUPPLEMENTARY INFORMATION: The FAA is reviewing a request by the Northeast Alabama Regional Airport Authority to release approximately 1.00± acres of airport property at Northeast Alabama Regional Airport (GAD) under the provisions of title 49, U.S.C. 47153(c). The FAA determined that the request to release property at Northeast Alabama Regional Airport (GAD) submitted by the Sponsor meets the procedural requirements of the Federal Aviation Administration and the release of the property does not and will not impact future aviation needs at the airport. The FAA may approve the request, in whole or in part, no sooner than thirty days after the publication of this notice. The property will be purchased by Prince Metal Stamping that also owns the adjacent site directly west. The property is located on the northern most parcel of airport property adjacent and south of Airport Industrial Drive. The airport will receive fair market value for the property, and the net proceeds from the sale of this property will be used for maintenance and improvements at the Northeast Alabama Regional Airport (GAD).

The proposed use of this property is compatible with airport operations. Copies of the Property Appraisal, Boundary Survey, Legal Description are available for examination by appointment. Any person may inspect the request in person at the FAA office listed above under FOR FURTHER INFORMATION CONTACT.

In addition, any person may, upon request, inspect the request, notice and other documents germane to the request in person at the Northeast Alabama Regional Airport 185 Ira Gray Drive, Gadsden, AL 35904.

Issued in Jackson, Mississippi, on January 6, 2023.
Rans D. Black,
Manager, Jackson Airports District Office, Southern Region.

[FR Doc. 2023-00546 Filed 1-12-23; 8:45 am]

BILLING CODE 4910-13-P